Proclamation 10936 of May 9, 2025

Military Spouse Day, 2025

By the President of the United States of America

A Proclamation

Military spouses are the heart and soul of our Armed Forces. Their unwavering devotion and profound influence enrich our fighting forces and the communities in which they serve. On Military Spouse Day, we proudly honor the wives and husbands who embrace this noble calling.

Every day, military spouses share their loved ones with a demanding, no-fail mission. Yet their own mission is no less daunting—frequent relocations to destinations not of their choosing; heart-wrenching separations; parenting, often alone; and career continuity within a nomadic and uncertain life. Their ongoing sacrifices are intrinsically linked to family morale, readiness, and retention. We cannot maintain the world's most lethal fighting force without the love, selflessness, and support of the military spouses who navigate the unique and challenging demands in life.

Employment is a critical challenge. Military spouses face a 21 percent unemployment rate—one of the highest demographics in the country—and a 25 percent wage gap compared to their civilian counterparts. Frequent relocations hinder job placements, career advancements, and tenures, regardless of their education and experience. During my first Administration, we made significant strides to improve military spouse employment by enhancing job opportunities within the Federal Government, expanding licensure portability, and increasing remote and flexible job options that provide continuity and financial stability for military spouses. Earlier this year, I issued a categorical exemption for military spouse employees following the return-to-office directive for Federal civilian employees, and we pledge to pursue additional innovative solutions to help military spouses thrive.

It takes uncommon devotion and steadfast love to stand alongside those who wear our Nation's uniform. Yet, generation after generation, military spouses stand in spite of the uncertainty, global threats, increasing demands, long hours, and the deployments that last months or even years. They stand—with resilience and resolve—not in the shadow of their loved ones in uniforms, but side by side as an invaluable mission partner and a force multiplier integral to our national defense. The First Lady and I are in admiration of these volunteer patriots, heroes, and warriors. Military spouses have our unwavering support, our prayers, and the respect of a grateful Nation.

NOW, THEREFORE, I, DONALD J. TRUMP, President of the United States of America, by virtue of the authority vested in me by the Constitution and the laws of the United States, do hereby proclaim May 9, 2025, as Military Spouse Day. I call upon the people of the United States to honor military spouses with appropriate ceremonies and activities.

IN WITNESS WHEREOF, I have hereunto set my hand this ninth day of May, in the year of our Lord two thousand twenty-five, and of the Independence of the United States of America the two hundred and forty-ninth.

[FR Doc. 2025-08679

Filed 5-13-25; 8:45 am]

Billing code 3395-F4-P